DEPARTMENT OF HEALTH AND HUMAN SERVICES

Substance Abuse and Mental Health Services Administration

Agency Information Collection Activities: Submission for OMB Review; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Addiction Technology Transfer Centers (ATTC) National Workforce Data Collection

The ATTC Network, a nationwide, multidisciplinary resource that draws upon the knowledge, experience and latest research of recognized experts in the field of addictions and behavioral health, is a unique CSAT initiative formed in 1993 in response to a shortage of well-trained addiction and behavioral health professionals in the public sector. The ATTC Network works to enhance the knowledge, skills and aptitudes of the addiction/behavioral health treatment and recovery services workforce by disseminating current health services research from the National Institute on Drug Abuse, National Institute on Alcohol Abuse and Alcoholism, National Institute of Mental Health, Agency for Health Care Policy and Research, National Institute of Justice, and other sources, as well as other SAMHSA programs. To accomplish this, the ATTC Network (1) develops and updates state-of-the-art research based curricula and professional development training, (2) coordinates and facilitates meetings between Single State Authorities, Provider Associations and other key stakeholders, and (3) provides ongoing technical assistance to individuals and organizations at the local, regional and national levels.

In response to the emerging shortages of qualified addiction treatment and recovery services professionals, SAMHSA/CSAT instructed the ATTC National Office to lead the ATTC Network in the development and implementation of a national addiction treatment workforce data collection effort of those individuals who work in substance use specialty treatment services. The purpose of this survey and data collection is to gather information to guide the formation of effective national, regional, state, and organizational policies and strategies aimed at successfully recruiting and retaining a sufficient number of adequately prepared providers who are able to respond to the growing needs of those affected by substance use and mental health disorders; including co-occurring disorders and trauma. This data collection will offer a unique perspective on the clinical treatment field so that CSAT and the ATTC Network can better understand current successful strategies and methodologies being used in the workforce and develop appropriate training for emerging trends in the field.

Although SAMHSA/CSAT is the primary target audience for data collection findings, it is expected that the data collected and resulting reports will also be useful to the ATTC Network, as well as to Single State Agencies, provider organizations, professional organizations, training and education entities, and individuals in the workforce.

Overview of Data Collection and Purposes

Data will be collected from two main sources: 1. A random sample of clinical directors or a designated direct care supervisor from facilities listed in the I-SATS database. 2. A national sample of clinical directors and key thought leaders, identified by CSAT in conjunction with the ATTC network, in the substance use disorders treatment field. Respondents will be asked to participate in at least one of three (3) distinct methods. They are:

• A web-based Clinical Director Survey (also available in paper format)

• On-line Focus Groups

• Key Informant Telephone Interviews

In addition to this original data collection, existing national data sets will also be utilized. Such data systems will include:

• Census 2000 datasets

• National Survey of Substance Abuse Treatment Services (N-SSATS)

• SAMHSA Treatment Gap Projection Analysis

• Treatment Episode Data

• Bureau of Labor datasets such as Current Employment Statistics

• Annapolis Coalition Data

Clinical Director Survey: The Clinical Director Survey asks 57 questions of the clinical director or a designated direct care supervisor (direct care refers to staff members who spend a majority of their time providing clinical care for clients with substance use and/or co-occurring disorders as their primary diagnosis). For the purpose of this survey, the clinical director is defined as the person whose role it is to oversee direct clinical service delivery for this facility. The instrument asks respondents to report demographic information about both themselves and the direct care staff they supervise, information about the facility at which they currently work, as well as information about their job satisfaction, recruitment and retention strategies, clinician training and preparation, and staff turnover.

On-Line Focus Groups: On-line Focus Groups will be utilized to gather qualitative data from two sources: 1. Clinical supervisors and/or direct care staff in leadership positions; 2. Thought leaders in addiction/behavioral health treatment to include Single State Authorities (SSAs), addiction treatment agency directors, academics, and policy makers. An on-line platform, IdeaScale.com will be used to gather qualitative data about future trends in substance use and co-occurring disorders and trauma treatment. IdeaScale will also be used to gather information from clinical supervisors and direct care staff on effective and creative staff development, recruitment, and retention strategies being used by the agency for which they work. These ideas will be posted for this community of invited participants to comment on and discuss; thus allowing a national audience to participate in this on-line focus group.

Key Informant Telephone Interviews: Based on participation in the on-line focus groups, a minimum of 40 IdeaScale respondents will be selected for telephone interviews. The purpose of these interviews is to enrich understanding surrounding current and future trends in substance use and co-occurring disorders and trauma treatment as well as effective workforce development, recruitment, and retention strategies. An interview script has been developed to guide the question formation for the interviews.

Overview of Questions Related to Data Collection

The objectives of the national addiction treatment workforce data collection effort are to understand the national demographics of the current workforce and how this differs across regions and states, in addition to exploring issues related to workforce development: 1. Staff training, recruitment and retention; 2. Professional development; and 3. Support for strategies and methodologies to prepare, recruit, retain, and sustain the workforce. To accomplish these objectives, CSAT outlined three primary questions to be addressed by the workforce data collection:

1. What are the basic demographics of the workforce?

For the purposes of the ATTC data collection effort, this means that we will comprehensively describe the workforce comprised of direct care staff, clinical supervisors, and administrators in agencies represented in the Inventory of Substance Abuse Treatment Services (I-SATS).

2. What are the anticipated workforce development needs for 2011-2016?

For the purposes of this data collection, the ATTC Network will identify the growth and capacity-building needs over the next five years of direct care staff, clinical supervisors, and administrators in agencies represented in the I-SATS registry.

3. What are the common strategies and methodologies to prepare, retain, and maintain the workforce?

Identification of potentially effective strategies used to prepare and recruit individuals to enter the workforce (as previously defined), and encourage them to remain in the workforce and stay current on clinical and other job related skills (e.g., evidence based practices).

This will be the first national survey of the substance use disorders treatment workforce. The quantitative survey and the qualitative interviews and analysis will be used to provide a snapshot of the current state of the addiction treatment workforce as it relates to demographics, workforce development needs, and retention and maintenance of a strong workforce. These data will provide national benchmark data that can be used to inform ongoing policy and practice.

Information collected from this workforce data collection will help CSAT and the ATTC Network to better understand the needs of the workforce and categorize some best practices for providing support to the field now and in the future. Emerging trends in addiction and/or co-occurring and trauma treatment and the existence of mental health problems in substance use disorder treatment and recovery services will be identified and shared with those in the addiction/behavioral health treatment field so appropriate training and funding can be allocated. The information from this data collection will also help CSAT identify areas where deficiencies in substance use and/or co-occurring disorder and trauma treatment exist and provide assistance to regions (and states) to help them develop and adopt strategies for addressing this.

The chart below summarizes the annualized burden for this project.

Proposed Project

Send comments to Summer King, SAMHSA Reports Clearance Officer, Room 8-1099, One Choke Cherry Road, Rockville, MD 20857 and e-mail a copy to summer.king@samhsa.hhs.gov. Written comments should be received within 60 days of this notice.

Dated: March 23, 2011.
Elaine Parry,
Director, Office of Management, Technology and Operations.

[FR Doc. 2011-7577 Filed 3-30-11; 8:45 am]

BILLING CODE 4162-20-P